DEPARTMENT OF COMMERCE

National Oceanic and Atmospheric Administration

[RTID 0648-XB301]

East Coast Fisheries of the United States; Public Meetings; Request for Comments

AGENCY: National Marine Fisheries Service (NMFS), National Oceanic and Atmospheric Administration (NOAA), Commerce.

ACTION: Notice of public meetings.

SUMMARY: Several fishery management bodies on the East Coast of the Atlantic Ocean are convening three public webinars to introduce a project called East Coast Climate Change Scenario Planning. This is a joint effort of the Atlantic States Marine Fisheries Commission (ASMFC), the New England Fishery Management Council (NEFMC), the Mid-Atlantic Fishery Management Council (MAFMC), the South Atlantic Fishery Management Council (SAFMC), and NOAA Fisheries. These webinars will introduce stakeholders to the overall initiative, present draft objectives, discuss potential outcomes, explain the general focus of the work, and collect initial stakeholder input.

DATES: These webinars will be held on Monday, August 30, 2021, at 4 p.m.-5:30 p.m.; Wednesday, September 1, 2021, at 6 p.m.-7:30 p.m.; Thursday, September 2, 2021, at 10 a.m.-11:30 a.m.

ADDRESSES: All meeting participants and interested parties are strongly encouraged to register in advance of any webinar they are interested in attending. Meeting links for each webinar can be located at: https://www.mafmc.org/climate-change-scenario-planning.

Meeting addresses: The meetings will be held via webinar (see SUPPLEMENTARY INFORMATION).

FOR FURTHER INFORMATION CONTACT: Thomas A. Nies, Executive Director, New England Fishery Management Council; telephone: (978) 465-0492. Contact information and individual staff members working on this initiative can be found here: https://www.mafmc.org/climate-change-scenario-planning.

SUPPLEMENTARY INFORMATION:

Background

Climate change is a growing threat to marine fisheries worldwide. On the East coast of the United States, there is evidence of climate-related shifts in distribution, abundance, and/or productivity of fishery resources. It is uncertain what the next couple of decades will bring, and how fishery management programs can best prepare to meet the challenges ahead. Over the next year, this joint effort will bring together researchers, fishery managers, fishery participants and others to discuss these questions and emerge with ideas and recommendations for how fishery management can potentially adapt to climate change.

The management bodies in this region have decided to employ a scenario planning framework to discuss these issues. Scenario planning is a way of exploring how fishery management may need to evolve over the next few decades as climate change becomes a bigger issue. Specifically, scenarios are stories about possible future developments. This approach is designed to help stakeholders and managers think broadly about the future implications of climate change to help define what changes can potentially be made now to be better prepared.

These introductory webinars are the first step of a multi-year scenario planning effort. Staff will explain the overall initiative and share draft objectives, possible outcomes and focus of the work. There will be a presentation introducing the basics of scenario planning and potential benefits of engaging in the process. At the end of the webinar there will be an opportunity for small group discussions for participants to share feedback and suggestions on the information presented and proposed. Additional details about the webinars will be posted to this page once available: https://www.mafmc.org/climate-change-scenario-planning.

Special Accommodations

These meetings are physically accessible to people with disabilities. Requests for sign language interpretation or other auxiliary aids should be directed to Thomas A. Nies, Executive Director, at (978) 465-0492, at least 5 days prior to the meeting date.

(Authority: 16 U.S.C. 1801 et seq.)

Dated: August 5, 2021.
Tracey L. Thompson,
Acting Deputy Director, Office of Sustainable Fisheries, National Marine Fisheries Service.

[FR Doc. 2021-17051 Filed 8-10-21; 8:45 am]

BILLING CODE 3510-22-P